DEPARTMENT OF AGRICULTURE

Food and Nutrition Service

Agency Information Collection Activities: Proposed Collection; Comment Request—School Breakfast Program Pilot Project Evaluation—Pre-Implementation Survey

AGENCY: Food and Nutrition Service, USDA.

ACTION: Notice.

SUMMARY: In accordance with the Paperwork Reduction Act of 1995, this notice announces the Food and Nutrition Service's intention to request Office of Management and Budget approval of the pre-implementation survey of the School Breakfast Program Pilot Project Evaluation.

DATES: Written comments on this notice must be received by June 16, 2000.

ADDRESSES: Comments are invited on: (a) Whether the proposed collection of information is necessary for the proper performance of the functions of the agency, including whether the information will have practical utility; (b) the accuracy of the agency's estimate of the burden of the proposed collection of information, including the validity of the methodology and assumptions used; (c) ways to enhance the quality, utility and clarity of the information to be collected; and (d) ways to minimize the burden of the collection of information on those who are to respond, including through the use of appropriate automated, electronic, mechanical, or other technological , collection techniques or other forms of information technology. Comments may be sent to: Alberta C. Frost, Director, Office of Analysis, Nutrition and Evaluation, Food and Nutrition Service, U.S. Department of Agriculture, 3101 Park Center Drive, Alexandria, VA 22302.

All responses to this notice will be summarized and included in the request for Office of Management and Budget (OMB) approval. All comments will also become a matter of public record.

FOR FURTHER INFORMATION CONTACT: Requests for additional information or copies of the proposed information collection forms should be directed to Alberta C. Frost, (703) 305-2117.

SUPPLEMENTARY INFORMATION: Title: The School Breakfast Program Pilot Project Evaluation—Pre-Implementation Survey

OMB Number: Not yet assigned.

Expiration Date: N/A

Type of Request: New collection of information.

Abstract: Section 109(b) of the William F. Goodling Child Nutrition Act of 1998 (Pub. L. 105-336) amended section 18(e) of the Richard B. Russell National School Lunch Act (42 U.S.C. 1769(e)) to authorize a pilot study that provides free school breakfasts to all students regardless of family income in up to six school districts. An evaluation would rigorously assess the effects of this universal school breakfast program on program participation and a broad range of student outcomes, including academic achievement, school attendance and tardiness, classroom behavior and attentiveness, and dietary status. The evaluation will include a comprehensive implementation analysis that documents how the universal-free breakfast program was implemented, changes in program operations and administration, and its costs. The evaluation may include a pre-implementation survey of parents to identify students who would be most likely to become new participants under a universal-free breakfast program. Approximately 150 students would be sampled from rosters of enrolled students provided by each of the 144 participating schools. The students' parents/guardians would be surveyed in telephone interviews lasting about 10-15 minutes. The survey would obtain information on children's participation in the regular School Breakfast Program, the likelihood that the student would participate in the universal-free program, and attitudes about breakfast and the School Breakfast Program. The survey would also collect information on the household's socioeconomic characteristics and student characteristics. This request for OMB approval is only for the pre-implementation survey. A separate package will be submitted to OMB for the remainder of the data collection instruments to be used in this evaluation.

Estimate of Burden: Public reporting burden is estimated to range between 10 and 15 minutes for each household.

Respondents: Parents/guardians of sampled students will be asked to respond to a short telephone survey.

Estimated Number of Respondents: 150 households from each of 144 elementary schools totaling 21,600 households.

Estimated Number of Responses per Respondent: One.

Estimated Total Annual Burden on Respondents: 5,400 hours.

Dated: April 11, 2000.
George A. Braley,
Acting Administrator, Food and Nutrition Service.

[FR Doc. 00-9554 Filed 4-14-00; 8:45 am]

BILLING CODE 3410-30-U